DEPARTMENT OF TRANSPORTATION

Coast Guard

33 CFR Part 117

[CGD08-02-007]

Drawbridge Operating Regulation; Bayou Boeuf, LA

AGENCY: Coast Guard, DOT.

ACTION: Notice of temporary deviation from regulations.

SUMMARY: The Commander, Eighth Coast Guard District has issued a temporary deviation from the regulation in 33 CFR 117 governing the operation of the Burlington Northern Santa Fe Railway railroad swing span drawbridge across Bayou Boeuf, mile 10.2, near Amelia, Louisiana. This deviation allows the Burlington Northern Santa Fe Railway to close the bridge to navigation from 6 a.m. until 7 p.m. daily from April 29, 2002 through May 31, 2002. During this period, the bridge will be opened in intervals of up to four-hours to pass any vessels that may be waiting for an opening. Presently, the draw is required to open on signal. This temporary deviation will allow for the replacement of the balance rail on the pivot pier.

DATES: This deviation is effective from 6 a.m. on Monday, April 29, 2002 until 7 p.m. on Friday, May 31, 2002.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The Burlington Northern Santa Fe Railway railroad swing span drawbridge across Bayou Boeuf, mile 10.2, near Amelia, Louisiana, has a vertical clearance in the closed-to-navigation position of 6 feet above high water and unlimited clearance in the open-to-navigation position. Navigation on the waterway consists of small tugs with tows, fishing vessels, and recreational craft. Presently, the draw opens on signal.

The Burlington Northern Santa Fe Railway requested a temporary deviation for the operation of the drawbridge to accommodate maintenance work. The work involves removing and replacing the balance rail on the pivot pier. This work is essential for continued operation of the draw span of the bridge.

This deviation allows the draw of the Burlington Northern Santa Fe Railway railroad swing span drawbridge across Bayou Boeuf, mile 10.2, near Amelia, Louisiana, to remain closed to navigation from 6 a.m. until 7 p.m. daily from April 29, 2002 through May 31, 2002. During this period, the bridge will be opened in intervals of up to four-hours to pass any vessels that may be waiting for an opening.

Dated: April 5, 2002.
Roy J. Casto,
Rear Admiral, U.S. Coast Guard, Commander, Eighth Coast Guard District.

[FR Doc. 02-9411 Filed 4-17-02; 8:45 am]

BILLING CODE 4910-15-P